ENVIRONMENTAL PROTECTION AGENCY

[FRL-7453-3]

Guidelines Establishing Test Procedures for the Analysis of Pollutants; Procedures for Detection and Quantitation; Public Meeting

AGENCY: Environmental Protection Agency (EPA).

ACTION: Notice of public meeting.

SUMMARY: EPA's Office of Water recently completed an assessment of detection and quantitation concepts and their application under Clean Water Act programs. The Agency intends to make the results of this assessment available through a public notice to be published in the Federal Register in March 2003. EPA is sponsoring a public meeting to describe this assessment, present the findings, and discuss recommendations. Following presentations by EPA, the public is invited to present comments on the assessment. Time will be made available to interested parties who send in a formal request to comment by April 5, 2003. Commenters are requested to provide copies of any presentation materials for the public record and for meeting participants.

DATES: The public meeting on Detection and Quantitation will be held on May 1, 2003, from 10 a.m. to 3 p.m., with a one-hour break from 12 p.m. to 1 p.m. Parties interested in presenting comments at the meeting must send in a formal request to comment by April 5, 2003.

ADDRESSES: The meeting will be held at the Holiday Inn Chicago Mart Plaza Hotel, 350 North Orleans Street, Chicago, Illinois, U.S.A. 60654. Formal requests to present comments at the meeting must be submitted by April 5, 2003, to Jennifer Maglinao, DynCorp, 6101 Stevenson Ave., Alexandria, VA 22304-3540, or by e-mail to jennifer.maglinao@dyncorp.com.

FOR FURTHER INFORMATION CONTACT: The public meeting is being coordinated by DynCorp System & Solutions LLC. Questions regarding public meeting logistics or requests to present comments should be addressed to: Jennifer Maglinao, DynCorp, 6101 Stevenson Ave., Alexandria, VA 22304-3540, by e-mail: jennifer.maglinao@dyncorp.com, by telephone: (703) 461-2137, or by facsimile at (703) 461-2020. Technical questions regarding the public meeting must be addressed to Marion Kelly by e-mail: kelly.marion@epa.gov or by facsimile at (202) 566-1053.

SUPPLEMENTARY INFORMATION: Requests to comment must be submitted by April 5, 2003, and must include the commenter's name, organization, address, telephone number, fax number (if applicable), and e-mail address (if applicable). All requests to present comments will be acknowledged and assigned a time slot. The amount of time allotted each commenter will depend upon the number of participants. Commenters are requested to provide copies of any presentation materials for the public record and for meeting participants. Although the public meeting is being held following the 26th Annual Conference on Analysis of Pollutants in the Environment, there is no registration fee to attend the public meeting.

This meeting/event will be held in a building which is accessible to persons using wheel chairs and scooters. If you wish to request that other arrangements be made because of your disability in order to enable you to participate or if you have questions about accessibility, please contact Jennifer Maglinao at (703) 461-2137 as soon as possible, but preferably no less than 5 business days before the event is scheduled.

Dated: February 13, 2003.
Pamela Barr,
Acting Director, Office of Science and Technology.

[FR Doc. 03-4246 Filed 2-21-03; 8:45 am]

BILLING CODE 6560-50-P